DEPARTMENT OF COMMERCE

Foreign-Trade Zones Board

[B-29-2015]

Foreign-Trade Zone (FTZ) 148—Knoxville, Tennessee; Notification of Proposed Production Activity; CoLinx, LLC (Bearing Units); Crossville, Tennessee

The Industrial Development Board of Blount County and the Cities of Alcoa and Maryville, Tennessee, grantee of FTZ 148, submitted a notification of proposed production activity to the FTZ Board on behalf of CoLinx, LLC (CoLinx), located in Crossville, Tennessee. The notification conforming to the requirements of the regulations of the FTZ Board (15 CFR 400.22) was received on April 29, 2015.

The CoLinx facilities are located within Sites 2, 6 and 7 of FTZ 148. The facilities are used for the distribution and assembly of kits of bearing products. Pursuant to 15 CFR 400.14(b), FTZ activity would be limited to the specific foreign-status materials and components and specific finished products described in the submitted notification (as described below) and subsequently authorized by the FTZ Board.

Production under FTZ procedures could exempt CoLinx from customs duty payments on the foreign status components used in export production. On its domestic sales, CoLinx would be able to choose the duty rates during customs entry procedures that apply to: Mounted unit roller assemblies (housed, spherical roller bearing units); and, mounted unit ball assemblies (housed ball bearing units) (duty rate 4.5%) for the foreign status inputs noted below. Customs duties also could possibly be deferred or reduced on foreign status production equipment.

The components and materials sourced from abroad include: Mineral oil based, lithium soap thickened bearing grease; double row insert bearings (spherical rollers), nitrile rubber contact lip seals with spring-loaded lips; and, plastic end caps for bearing housings (duty rate ranges from 2.5% to 1.3¢/kg + 5.7%).

Public comment is invited from interested parties. Submissions shall be addressed to the Board's Executive Secretary at the address below. The closing period for their receipt is June 17, 2015.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Elizabeth Whiteman at Elizabeth.Whiteman@trade.gov or (202) 482-0473.

Dated: April 30, 2015.
Andrew McGilvray,
Executive Secretary.

[FR Doc. 2015-11219 Filed 5-7-15; 8:45 am]

BILLING CODE 3510-DS-P